DEPARTMENT OF LABOR

Employment and Training Administration

[TA-W-73,170]

SuperMedia, LLC, Formerly Known as Idearc Media, LLC, a Subsidiary of SuperMedia Information Services, LLC Publishing Group, Troy, NY; Notice of Revised Determination on Reconsideration

By application dated July 16, 2010 petitioners requested administrative reconsideration of the Department's negative determination regarding the eligibility of workers and former workers of SuperMedia, LLC, formerly known as Idearc Media, LLC, a Subsidiary of SuperMedia Information Services, LLC, Troy, New York, to apply for Trade Adjustment Assistance. On August 13, 2010, the Department issued a Notice of Affirmative Determination Regarding Application for Reconsideration. The Notice was published in the Federal Register on October 25, 2010 (75 FR 65515). Workers at the subject firm are engaged in employment related to the production of telephone directories.

Based on the information obtained during the reconsideration investigation, the Department determines that the subject firm shifted to a foreign country a significant proportion of the services like or directly competitive with those provided by the Publishing Group.

Conclusion

After careful review of the additional facts obtained during the reconsideration investigation, I determine that workers of the subject firm, who are engaged in employment related to the production of telephone directories, meet the worker group certification criteria under Section 222(a) of the Act, 19 U.S.C. 2272(a). In accordance with Section 223 of the Act, 19 U.S.C. 2273, I make the following certification:

“All workers of SuperMedia, LLC, formerly known as Idearc Media, LLC, a Subsidiary of SuperMedia Information Services, LLC, Publishing Group, Troy, New York, who became totally or partially separated from employment on or after December 14, 2008, through two years from the date of this revised certification, and all workers in the group threatened with total or partial separation from employment on date of certification through two years from the date of certification, are eligible to apply for adjustment assistance under Chapter 2 of Title II of the Trade Act of 1974, as amended.”

Signed in Washington, DC, this 3rd day of December, 2010.
Del Min Amy Chen,
Certifying Officer, Office of Trade Adjustment Assistance.

[FR Doc. 2010-31135 Filed 12-10-10; 8:45 am]

BILLING CODE 4510-FN-P